SECURITIES AND EXCHANGE COMMISSION

[Release No. 34-80900; File No. SR-ICC-2017-005]

Self-Regulatory Organizations; ICE Clear Credit LLC; Notice of Withdrawal of Proposed Rule Change Relating to ICC's Liquidity Risk Management Framework and ICC's Stress Testing Framework

June 9, 2017.

On May 16, 2017, ICE Clear Credit LLC (“ICC”) filed with the Securities and Exchange Commission (“Commission”), pursuant to Section 19(b)(1) of the Securities Exchange Act of 1934 ¹ and Rule 19b-4 thereunder,² a proposed rule change to revise the ICC Liquidity Risk Management Framework and the ICC Stress Testing Framework. Notice of the proposed rule change was published in the Federal Register on June 6, 2017.³ The Commission did not receive comments on the proposed rule change.

¹ 15 U.S.C. 78s(b)(1).

² 17 CFR 240.19b-4.

³ Securities Exchange Act Release No. 34-80818 (May 31, 2017), 82 FR 26196 (June 6, 2017).

On June 8, 2017, ICC withdrew the proposed rule change (SR-ICC-2017-005).

⁴ 17 CFR 200.30-3(a)(12).

For the Commission, by the Division of Trading and Markets, pursuant to delegated authority.⁴
Robert W. Errett,
Deputy Secretary.

[FR Doc. 2017-12377 Filed 6-14-17; 8:45 am]

BILLING CODE 8011-01-P